ENVIRONMENTAL PROTECTION AGENCY

40 CFR Parts 239 and 258

[FRL-7570-1]

Virginia: Approval of Financial Assurance Regulations for the Commonwealth's Municipal Solid Waste Landfill Permitting Program

AGENCY: Environmental Protection Agency (EPA).

ACTION: Proposed rule.

SUMMARY: Virginia has applied to EPA for final approval of its financial assurance regulations for Municipal Solid Waste landfills under the Resource Conservation and Recovery Act (RCRA). EPA proposes to grant final approval to Virginia. In the “Rules and Regulations” section of this Federal Register, EPA is approving the changes by an Immediate Final Rule. EPA did not make a proposal prior to the Immediate Final Rule because we believe this action is not controversial and do not expect comments that oppose it. We have explained the reasons for this approval in the preamble to the Immediate Final Rule. Unless we receive written comments which oppose this approval during the comment period, the Immediate Final Rule will become effective on the date it establishes, and we will not take further action on this proposal. If we receive comments that oppose this action, we will withdraw the Immediate Final Rule, and it will not take effect. We will then respond to public comments in a later Final Rule based on this proposal. You will not have another opportunity for comment. If you want to comment on this action, you must do so at this time.

DATES: Send your written comments by November 6, 2003.

ADDRESSES: Written comments should be sent to Mike Giuranna, RCRA State Programs Branch, Waste & Chemicals Management Division (3WC21), U.S. EPA Region III, 1650 Arch Street, Philadelphia, Pennsylvania 19103-2029, telephone: (215) 814-3298. Comments may also be submitted electronically through the Internet to: giuranna.mike@epa.gov or by facsimile at (215) 814-3163. You may examine copies of the materials submitted by Virginia during normal business hours at EPA, Region III or at the offices of the Virginia Department of Environmental Quality at 629 East Main Street, Richmond, Virginia 23219-0009, Phone Number (804) 698-4238, attn: Melissa Porterfield.

FOR FURTHER INFORMATION CONTACT: Mike Giuranna, Mailcode 3WC21, RCRA State Programs Branch, U.S. EPA Region III, 1650 Arch Street, Philadelphia, PA 19103-2029, Phone Number: (215) 814-3298, e-mail: giuranna.mike@epa.gov.

SUPPLEMENTARY INFORMATION: For additional information, please see the Immediate Final Rule published in the “Rules and Regulations” section of today's Federal Register.

James W. Newsom,
Acting Regional Administrator, Region III.

[FR Doc. 03-25399 Filed 10-6-03; 8:45 am]

BILLING CODE 6560-50-P